DEPARTMENT OF HEALTH AND HUMAN SERVICES

Health Care Financing Administration

[HCFA-3054-N]

Medicare Program; Renewal of the Medicare Coverage Advisory Committee (MCAC)

AGENCY: Health Care Financing Administration (HCFA), HHS.

ACTION: Notice.

SUMMARY: This notice announces the renewal of the Medicare Coverage Advisory Committee (MCAC). The MCAC advises the Secretary of the Department of Health and Human Services (the Secretary) and the Administrator of the Health Care Financing Administration, as requested by the Secretary, whether medical items and services are reasonable and necessary under Title XVIII of the Social Security Act. This notice announces the signing of the MCAC charter renewal by the Secretary on November 24, 2000. The charter will terminate on November 24, 2002, unless renewed by the Secretary.

FOR FURTHER INFORMATION CONTACT: Patricia Brocato-Simons, Office of Clinical Standards and Quality, HCFA, 7500 Security Boulevard, Mail Stop S3-02-01, Baltimore, MD 21244, 410-786-0261, or E-mail pbrocatosimons@hcfa.gov.

SUPPLEMENTARY INFORMATION:

I. Background

On December 14, 1998, we published a notice in the Federal Register (63 FR 68780) announcing the establishment of the Medicare Coverage Advisory Committee (MCAC). The charter for the MCAC was signed by the Secretary on November 24, 1998.

The MCAC, chartered under 42 U.S.C. 217(a), section 222 of the Public Health Service Act, as amended, is governed by the provisions of the Federal Advisory Committee Act (FACA) (Public Law 92-463 as amended (5 U.S.C. Appendix 2)), which sets forth standards for the formulation and use of advisory committees.

The MCAC consists of 6 specialty panels and an executive committee (EC), with a total of 120 appointed members from authorities in clinical and administrative medicine, biologic and physical sciences, public health administration, health care data and information management and analysis, the economics of health care, medical ethics, and other related professions. The MCAC, functioning on its panel basis, reviews and evaluates medical literature, reviews technical assessments, and examines data and information on the effectiveness and appropriateness of medical items and services that are covered or eligible for coverage under Medicare. The panels work from an agenda provided by the MCAC that lists specific issues. The panels develop technical advice to be reviewed and ratified by the EC to assist us in determining reasonable and necessary applications of medical services and technology.

II. Provisions of This Notice

This notice announces the signing of the MCAC charter renewal by the Secretary on November 24, 2000. The charter will terminate on November 24, 2002, unless renewed by the Secretary.

III. Copies of the Charter

You may obtain a copy of the Secretary's Charter for the MCAC by submitting a request to Maria Ellis, Office of Clinical Standards and Quality, Health Care Financing Administration, 7500 Security Blvd., Mail Stop S3-02-01, Baltimore, MD 21244, 410-786-0309, or E-mail the request to mellis@hcfa.gov.

(Catalog of Federal Domestic Assistance Program No. 93.773, Medicare—Hospital Insurance; and Program No. 93.774, Medicare—Supplementary Medical Insurance Program)
Dated: January 29, 2001.
Michael McMullan,
Acting Deputy Administrator, Health Care Financing Administration.

[FR Doc. 01-3121 Filed 2-6-01; 8:45 am]

BILLING CODE 4120-01-P